DEPARTMENT OF THE TREASURY

Internal Revenue Service

26 CFR Part 1

[TD 8981]

RIN 1545-BA40

Disallowance of Deductions and Credits for Failure To File Timely Return; Correction

AGENCY: Internal Revenue Service (IRS), Treasury.

ACTION: Correction to temporary regulations.

SUMMARY: This document contains a correction to temporary regulations that were published in the Federal Register on Thursday, January 29, 2002 (67 FR 4173) relating to the disallowance of deductions and credits for nonresident alien individuals and foreign corporations that fail to file a timely U.S. income tax return.

DATES: This correction is effective January 29, 2002.

FOR FURTHER INFORMATION CONTACT: Nina E. Chowdhry, (202) 622-3880 (not a toll-free number).

SUPPLEMENTARY INFORMATION:

Background

The final and temporary regulations that are the subject of this correction is under sections 874 and 882 of the Internal Revenue Code.

Need for Correction

As published, the TD 8981 contains an error that may prove to be misleading and is in need of clarification.

Correction of Publication

Accordingly, the publication of TD 8981, that was the subject of FR Doc. 02-2044, is corrected as follows:

§ 1.874-1T [Corrected]

On page 4175, column 1, § 1.874-1T(b)(3), Example 1., line 28, the language “paragraph § 1.874-1(a) from claiming any” is corrected to read “§ 1.874-1(a) from claiming any”.

Cynthia E. Grigsby,
Chief, Regulations Unit, Associate Chief Counsel, (Income Tax and Accounting).

[FR Doc. 02-6476 Filed 3-18-02; 8:45 am]

BILLING CODE 4830-01-P